DEPARTMENT OF COMMERCE

National Oceanic and Atmospheric Administration

RIN 0648-XA908

Gulf of Mexico Fishery Management Council; Public Meeting

AGENCY: National Marine Fisheries Service (NMFS), National Oceanic and Atmospheric Administration (NOAA), Commerce.

ACTION: Council to convene public meeting.

SUMMARY: The Gulf of Mexico Fishery Management Council (Council) will convene a conference call meeting of the Shrimp Advisory Panel (AP).

DATES: The conference call meeting will convene at 9 a.m. Eastern Time on Tuesday, January 17, 2012 and is expected to end no later than 12 p.m.

ADDRESSES: The conference call will be accessible via telephone. Please go to the Gulf of Mexico Fishery Management Council's Web site at www.gulfcouncil.org for instructions.

Council address: Gulf of Mexico Fishery Management Council, 2203 N. Lois Avenue, Suite 1100, Tampa, FL 33607.

FOR FURTHER INFORMATION CONTACT: Dr. Richard Leard, Deputy Executive Director/Senior Fishery Biologist; Gulf of Mexico Fishery Management Council; telephone: (813) 348-1630.

SUPPLEMENTARY INFORMATION: The Gulf of Mexico Fishery Management Council will convene its Shrimp Advisory Panel to receive a presentation of the Biological Review of the 2011 Cooperative Texas Closure Report and a change in yield report. The Shrimp AP will then consider recommendations to the Council for a closure in 2012. Finally, the Shrimp AP will receive an update of new stock assessments being developed for shrimp stocks in the Gulf of Mexico.

Copies of the agenda and other related materials can be obtained by calling (813) 348-1630.

Although other non-emergency issues not on the agenda may come before the Shrimp AP for discussion, in accordance with the Magnuson-Stevens Fishery Conservation and Management Act (Magnuson-Stevens Act), those issues may not be the subject of formal action during this meeting. Actions of the Shrimp AP will be restricted to those issues specifically identified in the agenda and any issues arising after publication of this notice that require emergency action under Section 305(c) of the Magnuson-Stevens Act, provided the public has been notified of the Council's intent to take action to address the emergency.

Special Accommodations

This conference call is accessible to people with disabilities. For assistance with any of our conference calls contact Kathy Pereira at the Council (see ADDRESSES) at least 5 working days prior to the webinar.

Dated: December 22, 2011.
Tracey L. Thompson,
Acting Director, Office of Sustainable Fisheries, National Marine Fisheries Service.

[FR Doc. 2011-33271 Filed 12-27-11; 8:45 am]

BILLING CODE 3510-22-P